DEPARTMENT OF THE INTERIOR

National Park Service

[NPS-SERO-FRRI-30059; PS.SSELA0366.00.1]

Minor Boundary Revision at Freedom Riders National Monument

AGENCY: National Park Service, Interior.

ACTION: Notification of boundary revision.

SUMMARY: The boundary of the Freedom Riders National Monument is modified to include an additional 0.06 acres of land identified as Tract 01-103. The tract is located immediately adjacent and south of the former Greyhound Bus Station property in Calhoun County, Alabama. The boundary revision is depicted on Map No. 265/147640 dated August 24, 2018. The map is available for inspection at the following locations: National Park Service, Interior Region 2, 1924 Building, 100 Alabama Street SW, Atlanta, Georgia 30303 and National Park Service, Department of the Interior, 1849 C Street NW, Washington, DC 20240.

FOR FURTHER INFORMATION CONTACT: Chief Realty Officer John C. Danner, National Park Service, Land Resources Program Center, Interior Region 2 at 1924 Building, Fifth Floor, 100 Alabama Street SW, Atlanta, GA 30303-8701; telephone (404) 507-5657; email john_danner@nps.gov.

DATES: The effective date of this boundary revision is September 17, 2020.

SUPPLEMENTARY INFORMATION: 54 U.S.C. 100506(c)(1)(B), provides that, after notifying the House Committee on Natural Resources and the Senate Committee on Energy and Natural Resources, the Secretary of the Interior is authorized to make this boundary revision upon publication of notice in the Federal Register. The Committees have been notified of this boundary revision. This boundary revision and subsequent acquisition of Tract 01-103 by donation will enable the National Park Service to manage and protect significant resources located in the Freedom Riders National Monument.

Lance Hatten,
Acting Regional Director, Interior Region 2.

[FR Doc. 2020-20551 Filed 9-16-20; 8:45 am]

BILLING CODE 4312-52-P